DEPARTMENT OF HOUSING AND URBAN DEVELOPMENT

[Docket No. FR-7028-N-07; OMB Control No.: 2577-0292]

60-Day Notice of Proposed Information Collection: Emergency Waivers Reporting

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 23, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (Room 3178), Washington, DC 20410; telephone 202-708-3000, extension 3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Emergency Waivers Reporting.

OMB Approval Number: 2577-0292.

Type of Request: Extension of a currently approved collection.

Form Numbers: HUD-5883, HUD-5884, HUD-5885.

Description of the need for the information and proposed use: The purpose of this notice is to solicit public comment on the proposed Emergency Waivers Reporting.

In response to the national COVID-19 emergency, the Coronavirus Aid, Relief, and Economic Security Act (CARES Act) was enacted on March 27, 2020. The Act gives the Department the ability to waive regulatory and statutory provisions that apply to Public Housing Agencies (PHAs). Specifically, the CARES Act allows the Secretary of HUD to “waive, or specify alternative requirements for, any provision of any statute or regulation (except for requirements related to fair housing, nondiscrimination, labor standards, and the environment). . . . upon a finding by the Secretary that any such waivers or alternative requirements are necessary for the safe and effective administration of these funds . . . to prevent, prepare for, and respond to coronavirus.”

HUD issued a notice detailing the waivers available in response to the COVID-19 crisis, posted on April 10, 2020, as PIH Notice 2020-05. This notice states: PHAs are required to keep written documentation that record which waivers the PHA applied to their programs(s) and the effective dates.

In response to presidentially declared Major Disaster Declarations (MDDs), FR-6050-N-04 is: Relief from HUD Public Housing and Section 8 Requirements Available During CY2020 and CY2021 to Public Housing Agencies to Assist with Recovery and Relief Efforts. This notice lists the specific waivers and relief options available for use by PHAs.

No respondent is mandated to use a waiver but use of the waivers is encouraged by HUD in response to specific emergencies to reduce burdens and administrative requirements. The notice announcing the availability of waivers becomes the checklist which respondents use to note responses as to which waivers they elected to use and their start date.

Estimation of the total numbers of hours needed to prepare the information collection including number of respondents, frequency of responses, and hours of response:

Information collection | Number of respondents | Frequency of response | Responses per annum | Burden hour per response | Annual burden hours | Hourly cost | Total annual cost
HUD-5883 | 3,800 | 1 | 3,800 | 1 | 3,800 | 36.86 | $140,068
HUD-5884 | 300 | 1 | 300 | 1 | 300 | 36.86 | 11,058
HUD-5885 | 1,000 | 1 | 1,000 | 1 | 1,000 | 36.86 | 36,860
Total | 5,100 |  | 5,100 |  | 5,100 | 36.86 | 187,986

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions

C. Authority

Section 3507 of the Paperwork Reduction Act of 1995, 44 U.S.C. Chapter 35.

Dated: September 18, 2020.
Merrie Nichols-Dixon,
Director, Office of Policy, Programs and Legislative Initiatives.

[FR Doc. 2020-20998 Filed 9-22-20; 8:45 am]

BILLING CODE 4210-67-P